DEPARTMENT OF COMMERCE

National Oceanic and Atmospheric Administration

[Docket No. 050301050-5050-01]

Proposed NOAA Policy and Process for Creating and Managing Cooperative Institutes

AGENCY: Office of Oceanic and Atmospheric Research (OAR), National Oceanic and Atmospheric Administration (NOAA), Department of Commerce (DOC).

ACTION: Notice and request for public comments.

SUMMARY: NOAA publishes this notice to announce the availability of a Proposed NOAA Policy and Process for Creating and Managing Cooperative Institutes for public comment.

DATES: Comments on this draft document must be submitted by April 4, 2005.

ADDRESSES: The Proposed NOAA Policy and Process for Creating and Managing Cooperative Institutes is available at ftp://www.oarhq.noaa.gov/coopinst.pdf.

The public is encouraged to submit comments on the Proposed NOAA Policy and Process for Creating and Managing Cooperative Institutes Draft electronically to coop.inst@noaa.gov. For commenters who do not have access to a computer, comments on documents may be submitted in writing to Office of Oceanic and Atmospheric Research, c/o Dr. John Cortinas, Office of Scientific Support, 1315 East-West Highway, R/OSSX5, Silver Spring, Maryland 20910.

FOR FURTHER INFORMATION CONTACT: Dr. John Cortinas, Office of Scientific Support, OAR, 1315 East West Highway, R/OSSX5, Silver Spring, Maryland 20910, Phone (301) 713-2465, ext. 206.

SUPPLEMENTARY INFORMATION: The Proposed NOAA Policy and Process for Creating and Managing Cooperative Institutes is being developed in response to a January 2004 recommendation from the NOAA Science Advisory Board (SAB). The SAB recommended that NOAA develop a NOAA-wide process by which cooperative institutes and other cooperative arrangements with extramural partners are established and maintained. A copy of the SAB report is available at http://www.sab.noaa.gov/Reports/RRT_Report_080604.pdf.

The Proposed NOAA Policy and Process for Creating and Managing Cooperative Institutes defines the policy and process for establishing and managing all new NOAA cooperative institutes. This proposed policy includes guidelines for the review process, renewal process, and sunset clauses. Upon adoption of a final policy document, NOAA will evaluate all current cooperative institutes and create a plan to transition them to the new cooperative institute policy and process.

The Proposed NOAA Policy and Process for Creating and Managing Cooperative Institutes is being issued for comment only and is not intended for interim use. Suggested changes will be incorporated, where appropriate, in the final version. Upon adoption of the final policy and process, NOAA will issue a NOAA Administrative Order to institute the policy.

NOAA welcomes all comments on the content of the document. We also request comments on any inconsistencies perceived within the document, and possible omissions of important topics or issues. For any shortcoming noted within the draft document, please propose specific remedies.

Please adhere to the instructions detailed herein for preparing and submitting your comments. Using the format guidance described below will facilitate the consideration of all reviewer comments. Please provide background information about yourself on the first page of your comments: Your name(s), organization(s), and area of expertise, mailing address(es), and telephone and fax number, e-mail address(es). Overview comments should follow your background information and should be numbered. Comments that are specific to particular pages and paragraphs should follow any overview comments and should identify the page numbers to which they apply. Please number and print identifying information at the top of all pages.

Dated: March 2, 2005.
Louisa Koch,
Deputy Assistant Administrator, Office of Oceanic and Atmospheric Research, National Oceanic and Atmospheric Administration.

[FR Doc. 05-4429 Filed 3-7-05; 8:45 am]

BILLING CODE 3510-KD-P